DEPARTMENT OF COMMERCE

Foreign-Trade Zones Board

[B-22-2020]

Foreign-Trade Zone 139—Sierra Vista, Arizona; Withdrawal of Application for Reorganization (Expansion of Service Area) Under Alternative Site Framework

Notice is hereby given of the withdrawal of the application submitted by the Arizona Regional Economic Development Foundation, grantee of FTZ 139, requesting authority to reorganize the zone to expand its service area under the alternative site framework. The application was docketed on April 21, 2020 (85 FR 23506, April 28, 2020; 85 FR 26924, May 6, 2020). The withdrawal was requested by the applicant because of changed circumstances. The case has been closed without prejudice.

Dated: October 27, 2020.
Andrew McGilvray,
Executive Secretary.

[FR Doc. 2020-24205 Filed 10-30-20; 8:45 am]

BILLING CODE 3510-DS-P